DEPARTMENT OF ENERGY

Senior Executive Service Performance Review Board

AGENCY: Department of Energy.

ACTION: Designation of Performance Review Board Chair.

SUMMARY: This notice provides the Performance Review Board Chair designee for the Department of Energy.

This listing supersedes all previously published lists of Performance Review Board Chair.

DATES: This appointment is applicable as of September 30, 2017: Dennis M. Miotla.

Issued in Washington, DC, on September 26, 2017.
Erin S. Moore,
Director, Office of Corporate Executive Management, Office of the Chief Human Capital Officer.

[FR Doc. 2017-23166 Filed 10-24-17; 8:45 am]

BILLING CODE 6450-01-P